DEPARTMENT OF COMMERCE

International Trade Administration

[A-570-016]

Certain Passenger Vehicle and Light Truck Tires From the People's Republic of China: Final Results of Antidumping Duty Administrative Review and Final Determination of No Shipments; 2020-2021

AGENCY: Enforcement and Compliance, International Trade Administration, Department of Commerce.

SUMMARY: The Department of Commerce (Commerce) determines that the exporters of passenger vehicle and light truck tires (passenger tires) from the People's Republic of China (China) listed in the “Final Results of Review” section below, sold subject merchandise at less than normal value during the period of review (POR), August 1, 2020, through July 31, 2021. Further, we also determine that certain companies under review had no shipments to the United States during the POR.

DATES: Applicable March 14, 2023.

FOR FURTHER INFORMATION CONTACT: Toni Page or Peter Shaw, AD/CVD Operations, Office VII, Enforcement and Compliance, International Trade Administration, U.S. Department of Commerce, 1401 Constitution Avenue NW, Washington, DC 20230; telephone: (202) 482-1938 or (202) 482-0697, respectively.

SUPPLEMENTARY INFORMATION:

Background

On September 8, 2022, we published the Preliminary Results and invited interested parties to comment.¹ We invited parties to comment on the Preliminary Results. For details regarding the events that occurred since the Preliminary Results, see the Issues and Decision Memorandum.²

¹ See Certain Passenger Vehicle and Light Truck Tires from the People's Republic of China: Preliminary Results of Antidumping Duty Administrative Review; Rescission, in Part; and Preliminary Determination of No Shipments; 2020-2021, 87 FR 54970 (September 8, 2022) (Preliminary Results), and accompanying Preliminary Decision Memorandum (PDM).

² See Memorandum, “Issues and Decision Memorandum for the Final Results of the Antidumping Duty Administrative Review of Certain Passenger Vehicle and Light Truck Tires from the People's Republic of China and Final Determination of No Shipments; 2020-2021,” dated concurrently with, and hereby adopted by, this notice (IDM).

Scope of the Order ³

³ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

The products covered by this Order are certain passenger vehicle and light truck tires from China. For a full description of the scope of the Order, see the Issues and Decision Memorandum.

Analysis of Comments Received

All issues raised in the case and rebuttal briefs filed by interested parties are addressed in the Issues and Decision Memorandum. A list of the issues discussed in the Issues and Decision Memorandum is attached to this notice as an appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly https://access.trade.gov/public/FRNoticesListLayout.aspx.

Changes Since the Preliminary Results

Based on our analysis of the comments received from interested parties and for the reasons explained in the Issues and Decision Memorandum, we made certain changes in the calculation of Giti's and Sumitomo's ⁴ weighted-average dumping margins. These include changes to the valuation of certain inputs, correction of certain errors alleged by parties in their case and rebuttal briefs, changes related to minor corrections raised at on-site verification for Giti, and the use of a revised factors of production database for Sumitomo. For a discussion of these changes, see the Issues and Decision Memorandum.⁵

⁴ Giti refers to a single entity, which includes Giti Tire Global Trading Pte. Ltd. (GTT); Giti Radial (Anhui) Tire Company Ltd., and Giti Tire Fujian Company Ltd., Giti Tire (Hualin) Company, Ltd., Giti Tire Greatwall Company. Ltd., Giti Tire (Anhui) Company, Giti Tire (Yinchuan) Company Ltd., and Giti Tire (Chongqing) Company Ltd. Sumitomo refers to a single entity, which includes Sumitomo Rubber (Hunan) Co., Ltd.; Sumitomo Rubber (Changshu) Co., Ltd.; and Sumitomo Rubber Industries Co., Ltd. (collectively, Sumitomo). See Preliminary Results PDM at 2.

⁵ See IDM at “Changes Since the Preliminary Results.”

Final Determination of No Shipments

In the Preliminary Results, we found that: (1) Hongtyre Group Co.; (2) Mayrun Tyre (Hong Kong) Limited; (3) Qingdao Nama Industrial Co., Ltd.; (4) Shandong Changfeng Tyres Co., Ltd.; (5) Shandong Duratti Rubber Corporation Co., Ltd.; (6) Shandong Linglong Tyre Co., Ltd.; (7) Shandong Yongsheng Rubber Group Co., Ltd.; (8) Tyrechamp Group Co., Limited (Tyrechamp); (9) Wendeng Sanfeng Tyre Co., Ltd.; and (10) Zhaoqing Junhong Co., Ltd. did not have shipments of subject merchandise during the POR.⁶ No party commented on this preliminary finding for any company except Tyrechamp.

⁶ See Preliminary Results, 87 FR at 54970-71 and Preliminary Results PDM at “Preliminary Determination of No Shipments.”

As noted above, we preliminarily found that Tyrechamp did not have any shipments of subject merchandise during the POR. Although the petitioner ⁷ argued in its case brief against our preliminary finding of no shipments for Tyrechamp, we received no information to contradict our preliminary determination, thus, we continue to find that Tyrechamp made no shipments of subject merchandise to the United States during the POR.⁸ Therefore, for the final results of review, we continue to find that these companies did not have any shipments of subject merchandise during the POR.

⁷ The petitioner is the United Steel, Paper and Forestry, Rubber, Manufacturing, Energy, Allied Industrial and Service Workers International Union, AFL-CIO, CLC.

⁸ See Issues and Decision Memorandum at Comment 18 for a more detailed discussion of this issue.

Separate Rates

We made no changes to our preliminary separate rate findings. Thus, we continue to find that that the evidence provided by the two mandatory respondents as well as respondents: (1) Anhui Jichi Tire Co., Ltd.; (2) Crown International Corporation; (3) Hankook Tire China Co., Ltd.; (4) Jiangsu Hankook Tire Co., Ltd.; (5) Koryo International Industrial Limited; (6) Nankang (Zhangjiagang Free Trade Zone) Rubber Industrial Co., Ltd.; (7) Qingdao Sentury Tire Co., Ltd; 14 (8) Qingdao Sunfulcess Tyre Co., Ltd.; (9) Qingdao Transamerica Tire Industrial Co., Ltd.; (10) Shandong Haohua Tire Co., Ltd.; (11) Shandong Hengyu Science & Technology Co., Ltd.; (12) Shandong New Continent Tire Co., Ltd.; (13) Shandong Province Sanli Tire Manufactured Co., Ltd.; (14) Shandong Wanda Boto Tyre Co., Ltd.; and (15) Triangle Tyre Co., Ltd. supported finding an absence of both de jure and de facto government control, and, therefore, we continue to grant a separate rate to these companies.⁹

⁹ See Preliminary Results, 87 FR at 54970-71; see also Preliminary Results PDM at “Discussion of the Methodology;” and IDM at “Separate Rates.”

Rate for Non-Selected Separate Rate Respondents

The Tariff Act of 1930, as amended (the Act) and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate.

We calculated a 5.39 percent dumping margin for mandatory respondent Giti and a 0.59 percent dumping margin for mandatory respondent Sumitomo. We assigned the separate rate respondents a dumping margin equal to the weight average of Giti's and Sumitomo's final dumping margins. We weight averaged Giti's and Sumitomo's final dumping margins using the public values of their reported sales of subject merchandise to the United States during the POR in accordance with section 735(c)(5)(A) of the Act.¹⁰

¹⁰ See Memorandum, “Calculation of the Cash Deposit Rate for Non-Selected Companies,” dated March 7, 2023.

Final Results of Review

We are assigning the following dumping margins to the firms listed below for the period August 1, 2020, through July 31, 2021:

Exporter | Weighted- average dumping margin (percent)
Giti Tire Global Trading Pte. Ltd.; Giti Radial Tire (Anhui) Company Ltd.; and Giti Tire (Fujian) Company Ltd.; Giti Tire (Hualin) Company Ltd.; Giti Tire Greatwall Company, Ltd.; Giti Tire (Anhui) Company, ltd.; Giti Tire (Yinchuan) Company, Ltd.; Giti Tire (Chongqing) Company, Ltd | 5.39
Sumitomo Rubber Industries Ltd.; Sumitomo Rubber (Hunan) Co., Ltd.; and Sumitomo Rubber (Changshu) Co., Ltd | 0.59
Anhui Jichi Tire Co., Ltd | 2.19
Crown International Corporation | 2.19
Hankook Tire China Co., Ltd | 2.19
Jiangsu Hankook Tire Co., Ltd | 2.19
Koryo International Industrial Limited | 2.19
Nankang (Zhangjiagang Free Trade Zone) Rubber Industrial Co., Ltd | 2.19
Qingdao Sentury Tire Co., Ltd | 2.19
Qingdao Sunfulcess Tyre Co., Ltd | 2.19
Qingdao Transamerica Tire Industrial Co., Ltd | 2.19
Shandong Haohua Tire Co., Ltd | 2.19
Shandong Hengyu Science & Technology Co., Ltd | 2.19
Shandong New Continent Tire Co., Ltd | 2.19
Shandong Province Sanli Tire Manufactured Co., Ltd | 2.19
Triangle Tyre Co., Ltd | 2.19

Disclosure

Pursuant to 19 CFR 351.224(b), within five days of the publication of this Federal Register notice, we will disclose to the parties to this proceeding the calculations that we performed for these final results.

Assessment Rates

Pursuant to section 751(a)(2)(C) of the Act, and 19 CFR 351.212(b), Commerce will determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Giti and Sumitomo, we will calculate importer-specific assessment rates on the basis of the ratio of the total amount of antidumping duties calculated for each importer's examined sales and the total entered value of the sales, in accordance with 19 CFR 351.212(b)(1). Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.

For entries that were not reported in the U.S. sales database submitted by an exporter individually examined during this review, but that entered under the case number of that exporter (i.e., at the individually-examined exporter's cash deposit rate), Commerce will instruct CBP to liquidate such entries at the China-wide rate (i.e., 76.46 percent).¹¹

¹¹ See Order, 80 FR at 47904, n.19 and 47906.

For respondents not individually examined in this administrative review that qualified for a separate rate, the assessment rate will be the rate assigned to them for the final results (i.e., 2.19 percent).

For the respondents not eligible for a separate rate and that are part of the China-wide entity, we intend to instruct CBP to apply an ad valorem assessment rate of 76.46 percent (i.e., the China-wide entity rate) to all entries of subject merchandise during the POR that were exported by these companies.

Additionally, if Commerce determined that an exporter under review had no shipments of the subject merchandise, any suspended entries that entered under the exporter's case number will be liquidated at the China-wide rate.

Cash Deposit Requirements

The following cash deposit requirements will be effective for shipments of the subject merchandise entered, or withdrawn from warehouse, for consumption on or after the publication date for the final results of review, as provided for by section 751(a)(2)(C) of the Act: (1) for the exporters listed in the table above, the cash deposit rate will be the rate established in the final results of review that is listed for the exporter in the table; (2) for previously investigated or reviewed China and non-China exporters not listed in the table above that have separate rates, the cash deposit rate will continue to be the existing exporter-specific rate published for the most recent period; (3) for all China exporters of subject merchandise that have not been found to be entitled to a separate rate, the cash deposit rate will be the rate previously established for the China-wide entity, which is 76.46 percent; and (4) for all non-China exporters of subject merchandise which have not received their own rate, the cash deposit rate will be the rate applicable to the China exporter that supplied that non-China exporter. The cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping or countervailing duties occurred and the subsequent assessment of double antidumping duties.

Administrative Protective Order

This notice also serves as a reminder to parties subject to APO of their responsibility concerning the return or destruction of proprietary information disclosed under administrative protective order (APO) in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i)(1) of the Act, and 19 CFR 351.213(h) and 351.221(b)(5).

Dated: March 7, 2023.
Lisa W. Wang,
Assistant Secretary for Enforcement and Compliance.

Appendix—List of Topics Discussed in the Issues and Decision Memorandum

I. Summary

II. Background

III. Scope of the Order

IV. Final Determination of No Shipments

V. Separate Rates

VI. Changes Since the Preliminary Results

VII. Discussion of the Issues

Comment 1: Whether Giti Failed to Report Certain U.S. Sales

Comment 2: Whether to Apply Adverse Facts Available (AFA) to Giti's Warranty Expenses

Comment 3: Whether to Apply AFA to Giti's Advertising Expenses

Comment 4: Whether to Account for Giti's Minor Corrections in its Final Calculations

Comment 5: Whether Commerce Should Adjust Giti's Reported Section 301 Duty Reporting for the Final Results

Comment 6: Whether Commerce Should Correct the Value of Giti's Factors Of Production Usage

Comment 7: Whether Commerce Should Add Giti's Billing Adjustment in its Countervailing Duty Offset and U.S. Net Price Calculations

Comment 8: Whether Commerce Should Correct the Surrogate Value Used for Rail Freight

Comment 9: Whether Commerce Should Apply AFA to Sumitomo

Comment 10: Whether to Apply the Cohen's d Test

Comment 11: Whether to Grant Sumitomo a By-Product Offset

Comment 12: Whether to Grant Sumitomo's Rebate Price Adjustment

Comment 13: Whether Commerce Should Use Sumitomo's Reported Weight-Based Calculations for Freight, Warehousing and Marine Insurance Expenses

Comment 14: Whether Commerce Should Make Changes to the Surrogate Values Used for Natural Rubber for the Final Results Margin Calculations

Comment 15: Whether Commerce Should Make Changes to the Surrogate Values Used for Ocean Freight for the Final Results Margin Calculations

Comment 16: Whether to Include Distance in the Surrogate Value for Ocean Freight

Comment 17: Whether Commerce Should Use 10-Digit Harmonized Schedule Numbers for Surrogate Values

Comment 18: Whether Tyrechamp Group Co., Limited Had Reviewable Entries During the POR

Comment 19: Whether Kumho Tire Co., Inc. is Entitled to a Separate Rate

VIII. Recommendation

[FR Doc. 2023-05148 Filed 3-13-23; 8:45 am]

BILLING CODE 3510-DS-P